DEPARTMENT OF COMMERCE

International Trade Administration

[A-549-821]

Polyethylene Retail Carrier Bags From Thailand: Final Results of Antidumping Duty Administrative Review, Final Determination of No Shipments; 2015-2016

AGENCY: Enforcement and Compliance, International Trade Administration, Department of Commerce.

SUMMARY: On June 8, 2017, the Department of Commerce published the preliminary results of the administrative review (AR) of the antidumping duty (AD) order on polyethylene retail carrier bags (PRCBs) from Thailand. The period of review (POR) is August 1, 2015, through July 31, 2016. We invited parties to comment on the preliminary results. We received no comments. Accordingly, the final results remain unchanged from the preliminary results.

DATES: Applicable September 21, 2017.

FOR FURTHER INFORMATION CONTACT: Shanah Lee, AD/CVD Operations, Office III, Enforcement and Compliance, International Trade Administration, U.S. Department of Commerce, 1401 Constitution Ave. NW., Washington, DC 20230; telephone: (202) 482-6386.

SUPPLEMENTARY INFORMATION:

Background

On June 8, 2017, the Department published in the Federal Register the preliminary results of the 2015-2016 administrative review of the AD order on PRCBs from Thailand.¹ In the Preliminary Results, we rescinded the review for mandatory respondent, Sahachit Watana Plastic Ind. Co. Ltd. (Sahachit) in accordance with 19 CFR 351.213(d)(1).² In the Preliminary Results, we also preliminarily applied adverse facts available to mandatory respondent Landblue (Thailand) Co., Ltd. (Landblue), pursuant to section 776(a) and (b) of the Tariff Act of 1930, as amended (the Act).³ In addition, in accordance with section 735(c)(5)(B) of the Act, the Department preliminarily assigned to the non-selected companies the only rate determined for an individual respondent in this review, 122.88 percent.⁴ Finally, in the Preliminary Results, we preliminarily determined that Super Grip Co., Ltd. (Super Grip) had no shipments during the POR.⁵ The Department gave interested parties an opportunity to comment on the Preliminary Results. None were received. The Department conducted this review in accordance with section 751(a)(2) of the Act.

¹ See Polyethylene Retail Carrier Bags from Thailand: Preliminary Results and Partial Rescission of the Antidumping Duty Administrative Review and Preliminary Determination of No Shipments; 2015-2016, 82 FR 26666 (June 8, 2017) (Preliminary Results) and accompanying Preliminary Decision Memorandum (PDM).

² Id. at 26667.

³ Id. at 26667, 26668.

⁴ Id. at 26667.

⁵ Id.

Scope of the Order

The merchandise subject to this order is PRCBs, which may be referred to as t-shirt sacks, merchandise bags, grocery bags, or checkout bags. The subject merchandise is defined as nonsealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of changes to the Harmonized Tariff Schedule of the United States (HTSUS), imports of the subject merchandise are currently classifiable under statistical category 3923.21.0085 of the HTSUS. Furthermore, although the HTSUS subheading is provided for convenience and customs purposes, the written description of the scope of the order is dispositive.

Final Determination of No Shipments

As noted above, in the Preliminary Results, we preliminarily determined that Super Grip had no shipments during the POR.⁶ We received no comments from interested parties with respect to this claim. Therefore, because the record indicates that Super Grip did not export subject merchandise to the United States during the POR, and the Department has not received any information that would cause it to alter its Preliminary Results, we continue to find that Super Grip had no shipments during the POR.

⁶ Id.

Final Results of Review

Because the Department received no comments after the Preliminary Results for consideration for these final results, we have made no changes to the Preliminary Results. We continue to determine that Landblue did not act to the best of its ability by failing to respond to the Department's questionnaires, pursuant to section 776(a) and (b) of the Act; that the application of adverse facts available to Landblue is warranted; and that the rate of 122.88 percent is appropriate to apply to Landblue as adverse facts available. This rate is the highest rate calculated in the Final LTFV ⁷ and has been applied in each successive administrative review of this proceeding.⁸ Accordingly, pursuant to section 776(c)(2) of the Act, this rate does not require corroboration.

⁷ See Notice of Final Determination of Sales at Less Than Fair Value: Polyethylene Retail Carrier Bags from Thailand, 69 FR 34122, 34125 (June 18, 2004) (Final LTFV).

⁸ See Final LTFV, 69 FR at 34123-34124; Polyethylene Retail Carrier Bags from Thailand: Final Results of Antidumping Duty Administrative Review, 72 FR 1982, 1983 (January 17, 2007); Polyethylene Retail Carrier Bags from Thailand: Final Results of Antidumping Duty Administrative Review and Partial Rescission of Antidumping Duty Administrative Review, 72 FR 64580, 64582 (November 16, 2007); Polyethylene Retail Carrier Bags from Thailand: Final Results of Antidumping Duty Administrative Review and Partial Rescission of Antidumping Duty Administrative Review, 74 FR 2511, 2512 (January 15, 2009) (2006-2007 Final Results); and Polyethylene Retail Carrier Bags from Thailand: Final Results of Antidumping Duty Administrative Review, 74 FR 65751, 65752 (December 11, 2009).

In addition, consistent with the Court of Appeals for the Federal Circuit's decision in Albemarle Corp. v. United States,⁹ we have determined that a reasonable method for determining the rate for the non-selected companies is to use the rate applied to the mandatory respondent (Landblue) in this administrative review.¹⁰ This is the only rate determined in this review for an individual respondent and, thus, should be applied to the 26 non-selected companies under section 735(c)(5)(B) of the Act. Accordingly, we are assigning to the non-selected companies the dumping margin of 122.88 percent.

⁹ See Albermarle Corp. & Subsidiaries v. United States, 821 F.3d 1345 (Fed. Cir. 2016).

¹⁰ See, e.g., Certain Small Diameter Carbon and Alloy Seamless Standard, Line, and Pressure Pipe (Under 4½ Inches) From Japan: Preliminary Results of Antidumping Duty Administrative Review and Preliminary Determination of No Shipments; 2014-2015, 81 FR 45124, 45124 (July 12, 2016), unchanged in Certain Small Diameter Carbon and Alloy Seamless Standard, Line, and Pressure Pipe (Under 4½ Inches) From Japan: Final Results of Antidumping Duty Administrative Review and Final Determination of No Shipments; 2014-2015, 81 FR 80640, 80641 (November 16, 2016).

We therefore determine for these final results that the following weighted-average dumping margins on PRCBs from Thailand exist for the POR:

Exporter/Producer | Weighted- average dumping margins (percent)
Landblue (Thailand) Co., Ltd | 122.88
Apple Film Company, Ltd | 122.88
Dpac Inter Corporation Co., Ltd | 122.88
Elite Poly and Packaging Co., Ltd | 122.88
Film Master Co., Ltd | 122.88
Inno Cargo Co., Ltd | 122.88
Innopack Industry Co., Ltd | 122.88
K. International Packaging Co., Ltd | 122.88
King Bag Co., Ltd | 122.88
King Pac Industrial Co., Ltd | 122.88
M & P World Polymer Co., Ltd | 122.88
Minigrip (Thailand) Co., Ltd | 122.88
Multibax Public Co., Ltd | 122.88
Naraipak Co., Ltd | 122.88
PMC Innopack Co., Ltd | 122.88
Poly Plast (Thailand) Co., Ltd | 122.88
Poly World Co., Ltd | 122.88
Prepack Thailand Co., Ltd | 122.88
Print Master Co., Ltd | 122.88
Siam Best Products Trading Limited Partnership | 122.88
Sun Pack Inter Co., Ltd | 122.88
Superpac Corporation Co., Ltd | 122.88
Thai Origin Co., Ltd | 122.88
Thantawan Industry Public Co., Ltd | 122.88
Triple B Pack Co., Ltd | 122.88
Two Path Plaspack Co. Ltd | 122.88
Wing Fung Adhesive Manufacturing (Thailand) Co., Ltd | 122.88

Assessment

The Department has determined, and CBP shall assess, antidumping duties on all appropriate entries of subject merchandise in accordance with the final results of this review.¹¹ The Department intends to issue assessment instructions to CBP 15 days after the date of publication of these final results of review. We will instruct CBP to apply an ad valorem assessment rate of 122.88 percent to all entries of subject merchandise during the POR which were produced and/or exported by Landblue, and ad valorem assessment rate of 122.88 percent to all entries of subject merchandise during the POR which were produced and/or exported by the 26 companies that were not selected for individual examination.¹² Additionally, because the Department determined that Super Grip had no shipments of subject merchandise during the POR, for entries of merchandise produced by Super Grip, for which it did not know that the merchandise was destined for the United States, we will instruct CBP to liquidate unreviewed entries at the all-others rate in effect during the POR if there is no rate for the intermediate company(ies) involved in the transaction.¹³

¹¹ See 19 CFR 351.212(b).

¹² See PDM, at “Rate for Non-Examined Companies” (for an explanation of how we preliminarily determined the rate of non-selected companies).

¹³ See Antidumping and Countervailing Duty Proceedings: Assessment of Antidumping Duties, 68 FR 23954 (May 6, 2003).

Cash Deposit Requirements

The following deposit requirements will be effective upon publication of the notice of final results of administrative review for all shipments of subject merchandise entered, or withdrawn from warehouse, for consumption on or after the publication date, as provided by section 751(a)(2) of the Act: (1) The cash deposit rates for the reviewed companies will be the rates established in the final results of this review; (2) for merchandise exported by manufacturers or exporters not covered in this review but covered in a prior segment of the proceeding, the cash deposit rate will continue to be the company-specific rate published for the most recently completed segment of this proceeding; (3) if the exporter is not a firm covered in this review, a prior review, or the less-than-fair-value investigation but the manufacturer is, the cash deposit rate will be the rate established for the most recently completed segment of this proceeding for the manufacturer of the merchandise; (4) if neither the exporter nor the manufacturer has its own rate, the cash deposit rate will continue to be 4.69 percent, the all-others rate established in the order.¹⁴ These deposit requirements, when imposed, shall remain in effect until further notice.

¹⁴ See Notice of Implementation of Determination Under Section 129 of the Uruguay Round Agreements Act and Partial Revocation of the Antidumping Duty Order on Polyethylene Retail Carrier Bags from Thailand, 75 FR 48940 (August 12, 2010).

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanctions.

We are issuing and publishing these results in accordance with sections 751(a)(1) and 777(i)(1) of the Act and 19 CFR 351.221(b)(5).

Dated: September 14, 2017.
Gary Taverman,
Deputy Assistant Secretary for Antidumping and Countervailing Duty Operations, performing the non-exclusive functions and duties of the Assistant Secretary for Enforcement and Compliance.

[FR Doc. 2017-20125 Filed 9-20-17; 8:45 am]

BILLING CODE 3510-DS-P